DEPARTMENT OF LABOR

Employment and Training Administration

[TA-W-42,217]

Microelectronic Modules Corporation, Now Known as Bourns Microelectronic Modules Corporation, Inc., a Subsidiary of Bourns, Inc., New Berlin, Wisconsin; Amended Certification Regarding Eligibility To Apply for Worker Adjustment Assistance

In accordance with Section 223 of the Trade Act of 1974 (19 U.S.C. 2273) the Department of Labor issued a Certification of Eligibility to Apply for Worker Adjustment Assistance on October 10, 2002, applicable to workers of Microelectronic Modules Corporation, New Berlin, Wisconsin. The notice was published in the Federal Register on November 5, 2002 (67 FR 67422).

At the request of the petitioners, the Department reviewed the certification for workers of the subject firm. The workers are engaged in the production of computer chips and resistor products.

New information shows that Bourns Inc. purchased Microelectronic Modules Corporation, New Berlin, Wisconsin on or about October 30, 2003 and the firm is now known as Bourns Microelectronic Modules Corporation, Inc. Workers separated from employment at the subject firm had their wages reported under a separate unemployment insurance (UI) tax account for Bourns Microelectronic Modules Corporation, Inc.

Accordingly, the Department is amending the certification to properly reflect this matter.

The intent of the Department's certification is to include all workers of Microelectronic Modules Corporation, New Berlin, Wisconsin who were adversely affected by increased imports.

The amended notice applicable to TA-W-42,217 is hereby issued as follows:

All workers of Microelectronic Modules Corporation, now known as Bourns Microelectronic Modules Corporation, Inc., a subsidiary of Bourns Inc., New Berlin, Wisconsin, who became totally or partially separated from employment on or after September 23, 2001, through December 6, 2004, are eligible to apply for adjustment assistance under Section 223 of the Trade Act of 1974.

Signed at Washington, DC, this 4th day of June 2003.
Richard Church,
Certifying Officer, Division of Trade Adjustment Assistance.

[FR Doc. 04-13389 Filed 6-14-04; 8:45 am]

BILLING CODE 4510-30-P